DEPARTMENT OF ENERGY

Federal Energy Regulatory Commission

Combined Notice of Filings #1

Take notice that the Commission received the following electric rate filings:

Docket Numbers: ER11-2774-001.

Applicants: Virginia Electric and Power Company.

Description: Notice of Non-Material Changes in Fuel Procurement Operations of Dominion Resources Services, Inc.

Filed Date: 8/30/13.

Accession Number: 20130830-5229.

Comments Due: 5 p.m. ET 9/20/13.

Docket Numbers: ER13-2223-001.

Applicants: Town Square Energy, LLC.

Description: Amendment to Application for Market Based Rate Authority to be effective 10/1/2013.

Filed Date: 9/3/13.

Accession Number: 20130903-5040.

Comments Due: 5 p.m. ET 9/24/13.

Docket Numbers: ER13-2300-000.

Applicants: Arizona Public Service Company.

Description: Modifications to Transmission Agreements between APS & YCA RS 198 to be effective 11/1/2013.

Filed Date: 8/30/13.

Accession Number: 20130830-5204.

Comments Due: 5 p.m. ET 9/20/13.

Docket Numbers: ER13-2301-000.

Applicants: Dominion Energy Marketing, Inc.

Description: Compliance Filing—Amded Filing Transfer of Tariff to DEMI as DF to be effective 9/3/2013.

Filed Date: 9/3/13.

Accession Number: 20130903-5000.

Comments Due: 5 p.m. ET 9/24/13.

Docket Numbers: ER13-2302-000.

Applicants: Pacific Gas and Electric Company.

Description: Notice of Termination of Generator Special Facilities Agreement and Generator Interconnection Agreement for Los Esteros Critical Energy Facility of Pacific Gas and Electric Company.

Filed Date: 9/3/13.

Accession Number: 20130903-5017.

Comments Due: 5 p.m. ET 9/24/13.

Docket Numbers: ER13-2303-000.

Applicants: PJM Interconnection, L.L.C.

Description: Original Service Agreement No. 3636; Queue No. X1-085 to be effective 8/12/2013.

Filed Date: 9/3/13.

Accession Number: 20130903-5038.

Comments Due: 5 p.m. ET 9/24/13.

Docket Numbers: ER13-2304-000.

Applicants: TEC Energy Inc.

Description: FERC Electric MBR Tariff to be effective 10/31/2013.

Filed Date: 9/3/13.

Accession Number: 20130903-5061.

Comments Due: 5 p.m. ET 9/24/13.

Docket Numbers: ER13-2305-000.

Applicants: RJF-Morin Energy, LLC.

Description: Notice of Cancellation to be effective 9/3/2013.

Filed Date: 9/3/13.

Accession Number: 20130903-5086.

Comments Due: 5 p.m. ET 9/24/13.

Docket Numbers: ER13-2306-000.

Applicants: SJH Energy, LLC.

Description: Notice of Cancellation to be effective 9/3/2013.

Filed Date: 9/3/13.

Accession Number: 20130903-5096.

Comments Due: 5 p.m. ET 9/24/13.

Take notice that the Commission received the following electric reliability filings:

Docket Numbers: RR13-11-000.

Applicants: North American Electric Reliability Corporation.

Description: Change of Address in the North American Electric Reliability Corporation Rules of Procedure.

Filed Date: 9/3/13.

Accession Number: 20130903-5019.

Comments Due: 5 p.m. ET 9/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2013.
Nathaniel J. Davis, Sr.,
Deputy Secretary.

[FR Doc. 2013-21962 Filed 9-9-13; 8:45 am]

BILLING CODE 6717-01-P